DEPARTMENT OF LABOR

Veterans' Employment and Training Service

Stand Down Grant Requests; Extension of Availability of Funds

AGENCY: Veterans' Employment and Training Service, Department of Labor.

Announcement Type: Extension of Availability of Funds for Stand Downs

Funding Opportunity Number: FR Doc. 2011-5347

Key Dates: FR Doc. 2011-5347 will now expire December 31, 2013

Funding Opportunity Description:

Section 2021 of Title 38 of the United States Code (U.S.C.) reauthorizes the Homeless Veterans Reintegration Program through fiscal year (FY) 2013 and indicates: “the Secretary of Labor shall conduct, directly or through grant or contract, such programs as the Secretary determines appropriate to provide job training, counseling, and placement services (including job readiness and literacy and skills training) to expedite the reintegration of homeless veterans into the labor force.”

USDOL VETS is extending FR Doc. 2011-5347, published on March 10, 2011 (76 FR 13236), through December 31, 2013 to support local Stand Down events for the first quarter of FY 2014, contingent upon congressional appropriation. Please follow all instructions and submit all required documents to the Director for Veterans' Employment and Training (DVET) for your state. You will find address and contact information for DVET(s) at http://www.dol.gov/vets/aboutvets/contacts/map.htm.

If you need to speak to a person concerning this extension, you may telephone Cassandra Mitchell at 202-693-4570 (not a toll-free number).

Signed at Washington, DC this 23rd day of September, 2013.
Cassandra R. Mitchell,
Grant Officer.

[FR Doc. 2013-23930 Filed 10-2-13; 8:45 am]

BILLING CODE 4510-79-P